DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 30, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Escrow Funds and Other Similar Funds.

OMB Control Number: 1545-1631.

Type of Review: Extension without change of a currently approved collection.

Description: Section 468B(g) of the Internal Revenue Code requires that escrow accounts, settlement funds, and similar funds be subject to current taxation either as grantor trusts or otherwise. The final regulations relate to the taxation and reporting of income earned on qualified settlement funds and certain other escrow accounts, trusts, and funds, and other related rules. The final regulations affect qualified settlement funds, escrow accounts established in connection with sales of property, disputed ownership funds, and the parties to these escrow accounts, trusts, and funds. An election statement is filed for a qualified settlement fund (QSF) that the QSF has elected grantor trust treatment for the QSF and a statement is required from a transferor with respect to the transfer of cash or property to a disputed ownership fund.

Regulation Project Number: TD 9249.

Affected Public: Businesses and other for-profit organizations, Individuals or Households, Not-For-Profit Institutions, and Federal, State, Local, or Tribal governments.

Estimated Number of Respondents: 9,300.

Frequency of Response: On occasion.

Estimated Total Number of Annual Responses: 9,300.

Estimated Time per Response: 24 minutes.

Estimated Total Annual Burden Hours: 3,720 hours.

2. Title: Recommendation for Juvenile Employment with the Internal Revenue Service.

OMB Control Number: 1545-1746.

Type of Review: Extension without change of a currently approved collection.

Description: The Form “Recommendation for Juvenile Employment with the Internal Revenue Service”, is used by 13 Delegated Examining Units and 16 Area Personnel Offices throughout the IRS as a mechanism to screen out questionable applicants when considering juveniles for employment in taxpayers remittance and submission processing functions.

Form: Form 13094.

Affected Public: Individuals or Households.

Estimated Number of Respondents: 2,500.

Frequency of Response: On occasion.

Estimated Total Number of Annual Responses: 2,500.

Estimated Time per Response: 5 minutes.

Estimated Total Annual Burden Hours: 208 hours.

3. Title: Contract Coverage Under Title II of the Social Security Act.

OMB Control Number: 1545-0137.

Type of Review: Extension without change of a currently approved collection.

Description: U.S. citizens and resident aliens employed abroad by foreign affiliates of American employers are exempt from social security taxes. Under Internal Revenue Code section 3121(1), American employers may file an agreement on Form 2032 to waive this exemption and obtain social security coverage for U.S. citizens and resident aliens employed abroad by their foreign affiliates. The American employers can later file Form 2032 to cover additional foreign affiliates as an amendment to their original agreement.

Form: IRS Form 2032.

Affected Public: Businesses and other for-profit organizations, and Individuals or Households.

Estimated Number of Respondents: 26.

Frequency of Response: On occasion.

Estimated Total Number of Annual Responses: 26.

Estimated Time per Response: 6 hours, 4 minutes.

Estimated Total Annual Burden Hours: 158 hours.

Authority: 44 U.S.C. 3501 et seq.

Dated: August 26, 2020.
Spencer W. Clark,
Treasury PRA Clearance Officer.

[FR Doc. 2020-19146 Filed 8-28-20; 8:45 am]

BILLING CODE 4830-01-P